DEPARTMENT OF THE TREASURY

Submission for OMB Review; Comment Request

July 20, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 27,2001, to be assured of consideration.

Departmental Offices/International Portfolio Investment Data Systems

OMB Number: 1505-0146.

Form Number: TDF Schedules 1, 2 and 3.

Type of Review: Reinstatement.

Title: Survey of U.S. Ownership of Foreign Securities.

Description: The survey will collect information on U.S. holdings of foreign securities. The information will be used to help calculate the U.S. balance of payments and international investment positions, as well as for financial and monetary policy formulation. This survey is also part of an international effort coordinated by the International Monetary Fund (IMF) to improve worldwide balance of payments statistics. Respondents primarily largest banks, securities dealers and investors.

Respondents: Business or other for-profit, Not-for-profit institutions.

Estimated Number of Respondents/Recordkeepers: 2,210.

Estimated Burden Hours Per Respondent/Recordkeeper:

| Hours
Schedule 1, Custodians | 360
Schedule 2, Custodians, Investors and U.S. Resident Custodians | 40
Schedule 3, Custodians and Investors | 16

Frequency of Response: Other (approximately every 3 years).

Estimated Total Reporting/Recordkeeping Burden: 100,230 hours.

Clearance Officer: Lois K. Holland, (202) 622-1563, Departmental Offices, Room 2110, 1425 New York Avenue, NW., Washington, DC 20220.

OMB Reviewer: Alexander T. Hunt, (202) 395-7860, Office of Management and Budget, Room 10202, New Executive Office Building, Washington, DC 20503.

Lois K. Holland,
Departmental Reports Management Officer.

[FR Doc. 01-18702 Filed 7-26-01; 8:45 am]

BILLING CODE 4810-25-U